EXECUTIVE OFFICE OF THE PRESIDENT

Office of National Drug Control Policy

Drug-Free Communities Support Program National Evaluation; Proposed Information Collection; Notice of 60-Day Public Comment Period

AGENCY: Executive Office of the President, Office of National Drug Control Policy.

ACTION: Notice of 60-day public comment period.

SUMMARY: In compliance with the requirement of Section 3506(c)(2)(A) of the Paperwork Reduction Act of 1995, the Executive Office of the President, Office of National Drug Control Policy, Drug Free Communities Support Program is publishing the following summary of proposed information collections for public comment. Interested persons are invited to send comments regarding this burden estimate or any other aspect of this collection of information, including any of the following subjects: (1) The necessity and utility of the proposed information collection for the proper performance of the program's functions; (2) the accuracy of the estimated burden; (3) ways to enhance the quality, utility and clarity of the information to be collected; and (4) the use of automated collection techniques or other forms of information technology to minimize the information collection burden.

Executive Office of the President, Office of National Drug Control Policy is requesting OMB review and approval of this information collection. Written comments and/or recommendations will be accepted from the public if received by the individuals designated below within 60 days from the date of publication.

Type of Information Collection Request: New collection;

Title: Drug-Free Communities (DFC) Support Program National Evaluation;

Use: The DFC Support Program is an integral component of the National Drug Control Strategy and a requirement of Healthy People 2010 supporting the President's pledge to reduce America's drug use by 25 percent in five years through building community capacity to prevent substance abuse among our nation's youth. The DFC has two primary goals: (1) Reduce substance abuse among youth by addressing local risk and protective factors to minimize the likelihood of subsequent substance abuse in the community; and (2) support community anti-drug coalitions in becoming self-sufficient by establishing, strengthening, and fostering collaboration among public and private nonprofit agencies, as well as federal, state, local, and tribal governments to prevent and reduce substance abuse.

A National Evaluation of the DFC Support Program commenced in September 2004 to assess the program's implementation and effectiveness. The major purpose of the DFC Support Program National Evaluation is to design and implement a rigorous evaluation and to support an effective grant monitoring and tracking system.

The National Evaluation will make use of three separate collection instruments to gather information. The Monitoring and Tracking Questionnaire will serve as a quarterly report for the DFC grantees, and will provide information for both ONDCP and the National Evaluation. The Evaluation Questionnaire will be used on an annual basis and will answer evaluation questions that are not appropriate for the Monitoring and Tracking instrument. The Typology Classification Questionnaire will be used on an annual basis to classify respondents into a coalition typology developed by the evaluation contractor.

Frequency: Quarterly and annually;

Affected Public: Anti-Drug Coalitions;

Type of Respondents: Directors of Anti-Drug Coalitions or their designees;

Estimated annual burden is as follows:

Type of respondents | Estimated number of respondents | Estimated number of responses per respondent | Average burden per response (in hours) | Total annual burden (in hours)
Instrument: Monitoring and Tracking Questionnaire (Quarterly Report)
DFC Grantee Program Directors | 714 | 4 | 1.5 | 4284
Instrument: Evaluation Questionnaire
DFC Grantee Program Directors | 1 | 1.0 | 714
Instrument: Typology Classification Questionnaire
DFC Grantee Program Directors | 714 | 1 | 1.5 | 1071
Total |  |  |  | 6069

The only cost to respondents is time they spend completing the questionnaire(s). Data collected from grantees will be made available to them for planning, implimentation, and evaluation purposes. There are no Capital Costs to report. There are no Operating or Maintenance Costs to report.

Request for Comments: Written comments and/or recommendations from the public and affected entities are invited on one or more of the following points: (1) Whether the proposed collection of information is necessary for the proper performance of the functions of the DFC program, including whether the information will have practical utility; (2) the accuracy of the agency's estimate of the burden of the proposed collection of information, including the validity of the methodology and assumptions used; (3) ways to enhance the quality, utility, and clarity of the information to be collected; and (4) ways to minimize the burden of the collection of information those who are able to respond, including the use of appropriate automated, electronic, mechanical, or other technological collection techniques or other forms of information technology.

Comment Deadline: Comments regarding these proposed information collections must be mailed and/or faxed to the designee listed below, within 60-days of the date of this publication: Executive Office of the President, Office of National Drug Control Policy, Drug Free Communities Support Program, Attention: Keri-Lyn Coleman, MSW, Acting DFCSP Administrator, Washington, DC 20503. Fax number: 202-395-6641.

FOR FURTHER INFORMATION CONTACT: To request more information on the proposed information collections or to obtain a copy of the information collection plans and/or instruments, contact Keri-Lyn Coleman, MSW, Acting DFCSP Administrator, Executive Office of the President, Office of National Drug Control Policy, Washington DC 20503, or call non-toll free number 202-395-6762 or e-mail your request to: Keri-Lyn_S._Coleman@ondcp.eop.gov.

Dated: January 3, 2005.
Norman R. Deck,
Assistant Deputy Director, Office of National Drug Control Policy.

[FR Doc. 05-323 Filed 1-6-05; 8:45 am]

BILLING CODE 3180-02-P